FEDERAL LABOR RELATIONS AUTHORITY

Membership of the Federal Labor Relations Authority's Senior Executive Service Performance Review Board

AGENCY: Federal Labor Relations Authority.

ACTION: Notice.

SUMMARY: Notice is hereby given of the members of the Performance Review Board.

DATES: September 21, 2006.

FOR FURTHER INFORMATION CONTACT: Jill M. Crumpacker, Executive Director, Federal Labor Relations Authority (FLRA); 1400 K Street, NW., Washington, DC 20424-0001; (202) 218-7945.

SUPPLEMENTARY INFORMATION: Section 4314(c) of Title 5, U.S.C. (as amended by the Civil Service Reform Act of 1978) requires each agency to establish, in accordance with regulations prescribed by the Office of Personnel Management, one or more Performance Review Boards (PRB). Section 4314 (c)(4) requires that notice of appointment of the PRB be published in the Federal Register.

As required by 5 CFR 430.310, Chairman Dale Cabaniss has appointed the following executives to serve on the 2006-2007 PRB for the FLRA, beginning September 2006 through September 2007:

Frank Battle, Deputy Director of Administration, National Labor Relations Board; Jill Crumpacker, Executive Director, Federal Labor Relations Authority; Russell G. Harris, Deputy Administrator, Wage and Hour Division, U.S. Department of Labor; Kent Baum, Chief Human Capital Officer, U.S. Patent and Trademark Office; Steve Nelson, Director, Office of Policy and Evaluation, Merit Systems Protection Board.

Authority: 5 U.S.C. 4134(c)(4).

Dated: September 15, 2006.
Jill M. Crumpacker,
Executive Director.

[FR Doc. 06-7938 Filed 9-20-06; 8:45 am]

BILLING CODE 6727-01-P